DEPARTMENT OF TRANSPORTATION

Office of the Secretary

Aviation Proceedings, Agreements Filed the Week Ending January 31, 2003

The following Agreements were filed with the Department of Transportation under the provisions of 49 U.S.C. 412 and 414. Answers may be filed within 21 days after the filing of the application.

Docket Number: OST-2003-14418.

Date Filed: January 31, 2003.

Parties: Members of the International Air Transport Association.

Subject: PTC3 0607 dated 3 January 2003, TC3 Areawide Resolutions 002, 017c, 091w r1-r9, PTC3 0618 dated 3 January 2003, TC3 from Malaysia to Guam Resolutions r10-r14, PTC3 0619 dated 3 January 2003, TC3 between Malaysia and American Samoa, Resolutions r15-r20, PTC3 0620 dated 3 January 2003, TC3 between Korea (Rep. of) and Guam, Northern, Mariana Islands Resolutions r21-r29, PTC3 0621 dated 3 January 2003, TC3 between Korea (Rep. of) and American Samoa, Resolutions r30-r34, Minutes—PTC3 0623 dated 24 January 2003, Tables—PTC3 Fares 0197 dated 10 January 2003, PTC3 Fares 0203 dated 10 January 2003, PTC3 Fares 0204 dated 10 January 2003, PTC3 Fares 0205 dated 10 January 2003, Intended effective date: 1 April 2003.

Docket Number: OST-2003-14419.

Date Filed: January 31, 2003.

Parties: Members of the International Air Transport Association.

Subject: PTC12 USA-EUR Fares 0075 dated 31 January 2003 Resolution 015h—USA Add-ons between USA and UK intended effective date: 1 April 2003.

Dorothy Y. Beard,
Chief, Docket Operations & Media Management, Federal Register Liaison.

[FR Doc. 03-3455 Filed 2-11-03; 8:45 am]

BILLING CODE 4910-62-P